DEPARTMENT OF COMMERCE

International Trade Administration

(A-533-820)

Certain Hot-Rolled Carbon Steel Flat Products from India: Notice of Preliminary Results of Antidumping Duty Administrative Review, and Intent to Rescind in Part

AGENCY: Import Administration, International Trade Administration, Department of Commerce.

SUMMARY: In response to requests from petitioners,¹ the Department of Commerce (“the Department”) is conducting an administrative review of the antidumping order on certain hot-rolled carbon steel flat products from India (“Indian Hot-Rolled”) manufactured by Essar Steel Limited (“Essar”), Ispat Industries Limited (“Ispat”), JSW Steel Limited (“JSW”), and Tata Steel Limited (“Tata”). The period of review (“POR”) covers December 1, 2007, through November 30, 2008. We preliminarily determine to calculate an antidumping duty margin based upon the application of adverse facts available (“AFA”) with respect to Essar's sales. We also preliminarily determine that Ispat, JSW and Tata had no entries of subject merchandise subject to review under this antidumping order during the POR. If these preliminary results are adopted in our final results of this review, we will instruct U.S. Customs and Border Protection (“CBP”) to assess antidumping duties on all appropriate entries of subject merchandise during the POR.

¹ The petitioners are the United States Steel Corporation Steel, Nucor Corporation, and ArcelorMittal USA Inc. (collectively “petitioners”).

Interested parties are invited to comment on these preliminary results. We intend to issue the final results no later than 120 days from the date of publication of this notice, pursuant to section 751(a)(3)(A) of the Tariff Act of 1930, as amended (“the Act”).

EFFECTIVE DATE: January 8, 2010.

FOR FURTHER INFORMATION CONTACT: Joy Zhang or James Terpstra, AD/CVD Operations Office 3, Import Administration, International Trade Administration, U.S. Department of Commerce, 14th Street and Constitution Avenue, NW, Washington, DC 20230; telephone: (202) 482-1168 and (202) 482-3965, respectively.

SUPPLEMENTARY INFORMATION:

Background

On December 3, 2001, the Department published in the Federal Register the antidumping duty order on Indian Hot-Rolled. See Notice of Amended Final Antidumping Duty Determination of Sales at Less Than Fair Value and Antidumping Duty Order: Certain Hot-Rolled Carbon Steel Flat Products from India, 66 FR 60194 (December 3, 2001) (“Amended Final Determination”). On December 1, 2008, the Department published in the Federal Register a notice titled “Opportunity to Request Administrative Review” of the antidumping duty order on Indian Hot-Rolled. See Antidumping or Countervailing Duty Order, Finding, or Suspended Investigation; Opportunity To Request Administrative Review, 73 FR 72764 (December 1, 2008). On December 31, 2008, petitioners requested an administrative review in the antidumping duty order on Indian Hot-Rolled, for subject merchandise produced or exported by Ispat, JSW, Tata, and Essar. On February 2, 2009, the Department published a notice of initiation of antidumping duty administrative review of Indian Hot-Rolled for the period December 1, 2007, through November 30, 2008. See Initiation of Antidumping and Countervailing Duty Administrative Reviews and Request for Revocation in Part, 74 FR 5821 (February 2, 2009) (“Initiation Notice”). On February 6, 2009, Ispat, Essar, and JSW each informed the Department that they did not have shipments of the subject merchandise to the United States during the POR. On February 19, 2009, the Department released to the parties U.S. Customs and Border Protection (“CBP”) data showing a single entry of subject merchandise into the United States.² On February 25, 2009, Tata informed the Department that it made no shipments of subject merchandise that were entered into the United States during the POR, and that the entry shown in the CBP data was not produced by Tata, but was in fact produced and sold by another Indian manufacturer. On March 4, 2009, Essar filed a response to the CBP data and Tata's February 25, 2009, submission, stating that Essar made a sale during the POR, but Essar believed that this was a domestic sale, rather than a sale to the United States. On March 17, 2009, the Department issued an antidumping questionnaire to Tata. On March 19, 2009, Tata submitted its response to the Department and included as an attachment several e-mails regarding the sale in question to demonstrate that Essar was the exporter of the single shipment. Tata argued that Essar had actual knowledge at the time that it made the sale in India to Tata Steel's affiliate, Tata Ryerson, that the merchandise was to be exported to the United States. Therefore, Tata argued that Essar is the appropriate exporter for this shipment, and that the Department should rescind the instant review of Tata. See Tata's March 19, 2009, submission at 2. In its April 3, 2009, submission, Essar reiterated that because it treated the subject sale as a domestic sale, it had no shipments to the United States during the POR and it should not be a respondent in this proceeding. See Essar's April 3, 2009, submission at 5.

² See Memorandum to File, Re: “Certain Hot-Rolled Carbon Steel Flat Products from India,” Subject: “Customs and Border Protection Data for Selection of Respondents for Individual Review,” from Dennis McClure, International Trade Compliance Analyst, through James Terpstra, Program Manager, and Melissa Skinner, Office Director, Office 3, AD/CVD Operations, dated February 19, 2009 (“Hot-Rolled Memo”).

On May 8, 2009, the Department sent a letter to Essar, stating that, after review of record information from CBP, and the submissions of both Essar and Tata, the Department determined that Essar had knowledge that the merchandise it sold was destined for the United States before the terms of sale were finalized. Because the Department considered the shipment of subject merchandise to be made by Essar, it notified Essar that it would be required to respond to the Department's antidumping questionnaire. See Letter from James Terpstra, Program Manager, AD/CVD, Office 3, Import Administration to Essar, dated May 8, 2009.

Contrary to the Department's instructions, Essar did not respond to the Department's questionnaire. Instead, by letter dated June 15, 2009, Essar informed the Department that it would not be able to actively participate in this administrative review, except with respect to briefing and any hearing that might be requested. Essar reiterated its position that it was not the appropriate respondent and requested that the Department rescind this review with respect to Essar.

On September 10, 2009, the Department extended the time period for issuing the preliminary results of the administrative review from September 2, 2009, to December 31, 2009. See Certain Hot-Rolled Carbon Steel Flat Products from India: Notice of Extension of Time Limits for Preliminary Results of Antidumping Duty Administrative Review, 74 FR 46569 (September 2, 2009).

Period of Review

The POR covered by this review is December 1, 2007, through November 30, 2008.

Scope of the Order

The merchandise subject to this order is certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this order.

Specifically included in the scope of this order are vacuum-degassed, fully stabilized (commonly referred to as interstitial-free (“IF”)) steels, high-strength low-alloy (“HSLA”) steels, and the substrate for motor lamination steels. IF steels are recognized as low-carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of this order, regardless of definitions in the Harmonized Tariff Schedule of the United States (“HTSUS”), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled carbon steel products in which at least one of the chemical elements exceeds those listed above (including, e.g., American Society for Testing and Materials (“ASTM”) specifications A543, A387, A514, A517, A506)).

• Society of Automotive Engineers (“SAE”)/American Iron & Steel Institute (“AISI”) grades of series 2300 and higher.

• Ball bearings steels, as defined in the HTSUS.

• Tool steels, as defined in the HTSUS.

• Silico-manganese (as defined in the HTSUS) or silicon electrical steel with a silicon level exceeding 2.25 percent.

• ASTM specifications A710 and A736.

• United States Steel (“USS”) Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is currently classifiable in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel covered by this order, including: vacuum-degassed fully stabilized; high-strength low-alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the Department's written description of the merchandise subject to this order is dispositive.

Intent to Rescind and Preliminary Partial Rescission of Administrative Review with Respect to Ispat, JSW, and Tata

Ispat and JSW have each submitted timely-filed certifications indicating that they had no shipments of subject merchandise to the United States during the POR. See Hot-Rolled Memo. The Department confirmed Ispat and JSW's assertions with the CBP data. With respect to the one entry of subject merchandise into the United States during the POR, the Department determined that the entry was produced and sold by Essar because Essar had knowledge that merchandise it was selling was destined for the United States before the terms of sale were finalized. In making this determination, the Department concluded, based upon record evidence that the sale was not made by Tata. As a result, we preliminarily find that, during the POR, Ispat, JSW, and Tata did not have entries of subject merchandise into the United States subject to this antidumping review. Therefore, pursuant to 19 CFR § 351.213(d)(3), and consistent with our practice, we preliminarily determine to rescind this review with respect to Ispat, JSW and Tata. We invite comments from interested parties on this intent to rescind.

Use of Adverse Facts Available

Section 776(a) of the Act provides that, the Department shall apply “facts otherwise available” if (1) necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

Section 776(c) of the Act provides that, when the Department relies on secondary information rather than on information obtained in the course of an investigation or review, it shall, to the extent practicable, corroborate that information from independent sources that are reasonably at its disposal. Secondary information is defined as “{i}nformation derived from the petition that gave rise to the investigation or review, the final determination concerning the subject merchandise, or any previous review under section 751 concerning the subject merchandise.” See Statement of Administrative Action, reprinted in H.R. Doc. No. 103-216, at 870 (1994) (“SAA”). Corroborate means that the Department will satisfy itself that the secondary information to be used has probative value. Id. To corroborate secondary information, the Department will, to the extent practicable, examine the reliability and relevance of the information to be used.

Application of Adverse Facts Available

On May 8, 2009, the Department sent a letter to Essar, stating that record evidence indicated that Essar had knowledge that the merchandise it sold to Tata Ryerson was destined for the United States before the terms of sale were finalized. Accordingly, the Department required Essar to respond to the Department's antidumping questionnaire in accordance with the Department's practice. Under section 772(a) of the Act, the basis for export price is the price at which the first party in the chain of distribution who has knowledge of the U.S. destination of the merchandise sells the subject merchandise, either directly to a U.S. purchaser or to an intermediary such as a trading company. The party making such a sale, with knowledge of the destination, is the appropriate party to be reviewed. The Department's test for determining knowledge is whether the relevant party knew or should have known that the merchandise was for export to the United States. See SAA. The record evidence in this review shows that Essar learned of the U.S. destination of the merchandise on the same day that it offered an initial sales quote for coiled steel to Tata Ryerson, and that Essar knew that Tata Ryerson would slit the coil and ship it the United States. Therefore, the Department determined that Essar sold the subject merchandise to Tata Ryerson and at the time of the sale, had knowledge or should have known its merchandise was ultimately destined for the United States.

Instead of responding to the Department's questionnaire, Essar stated that it would not respond. Specifically, Essar stated that “it will not be able to actively participate in this administrative review, except with respect to briefing and any hearing in this review.” See Essar's June 15, 2009, letter to the Department at 2. Therefore, the Department preliminarily determines that necessary information is not available on the record to serve as the basis for the calculation of Essar's margin. See section 776(a)(1) of the Act. We also determine that Essar withheld requested information and, as a result, has significantly impeded this proceeding. See section 776(a)(2)(A) and (C) of the Act; see Certain Lined Paper Products from India: Notice of Final Results of the First Antidumping Duty Administrative Review, 74 FR 17149 (April 14, 2009), and accompanying Issues and Decision Memorandum at Comment 2; see also Notice of Final Determination of Sales at Less Than Fair Value and Affirmative Final Determination of Critical Circumstances: Certain Orange Juice From Brazil, 71 FR 2183 (January 13, 2006), and the accompanying Issues and Decision Memorandum at Comment 18; and Notice of Final Determination of Sales of Less Than Fair Value and Final Negative Critical Circumstances: Carbon and Certain Alloy Steel Wire Rod from Brazil, 67 FR 55792, 55794-96 (August 30, 2002) (“Wire Rod from Brazil”).

Because Essar did not submit the questionnaire response requested by the Department, and notified the Department that it would not participate in this administrative review, there is no information provided by Essar that would enable the Department to calculate a margin for Essar. Thus, section 782(d) of the Act does not apply in this case.

According to section 776(b) of the Act, if the Department finds that an interested party fails to cooperate by not acting to the best of its ability to comply with requests for information, the Department may use an inference that is adverse to the interests of that party in selecting from the facts otherwise available. See Notice of Final Results of Antidumping Duty Administrative Review: Stainless Steel Bar from India, 70 FR 54023, 54025-26 (September 13, 2005); and Wire Rod from Brazil 67 FR 55792, 55794-96 (August 30, 2002). Adverse inferences are appropriate “to ensure that the party does not obtain a more favorable result by failing to cooperate than if it had cooperated fully.” See SAA at 870. Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382-83 (Fed. Cir. 2003) (“Nippon”). In this case, the Department finds that Essar did not act to the best of its ability in this proceeding, within the meaning of section 776(b) of the Act, because it could have responded to the Department's requests for information, but decided not to do so. In fact, Essar made no attempt to provide the Department with any information after it was informed by the Department that it would be a mandatory respondent in this review. Therefore, an adverse inference is warranted in selecting from the facts otherwise available with respect to Essar. See Nippon, 337 F.3d at 1382-83.

Section 776(b) of the Act provides that the Department may use as AFA, information derived from: 1) the petition; 2) the final determination in the investigation; 3) any previous review; or 4) any other information placed on the record. The Department's practice, when selecting an AFA rate from among the possible sources of information, has been to ensure that the margin is sufficiently adverse “as to effectuate the statutory purposes of the adverse facts available rule to induce respondents to provide the Department with complete and accurate information in a timely manner.” See, e.g., Certain Steel Concrete Reinforcing Bars from Turkey; Final Results and Rescission of Antidumping Duty Administrative Review in Part, 71 FR 65082, 65084 (November 7, 2006).

In order to ensure that the margin is sufficiently adverse so as to induce future cooperation, the Department preliminarily determines to assign Essar an AFA rate of 28.25 percent. This rate is Essar's cash deposit rate from the investigation and represents the highest calculated margin from the investigation in this case as adjusted to account for countervailing duties imposed to offset export subsidies. The Department determines that the selected margin will prevent Essar from benefitting from its failure to cooperate with the Department's requests for information. See Notice of Amended Final Antidumping Duty Determination of Sales at Less Than Fair Value and Antidumping Duty Order: Certain Hot-Rolled Carbon Steel Flat Products From India, 66 FR 60194 (December 3, 2001). Additionally, we find that this rate is reasonably high enough to encourage participation in future segments of the proceeding.

Corroboration of Information

Section 776(c) of the Act requires the Department to corroborate, to the extent practicable, secondary information used as facts available. Secondary information is defined as information derived from the petition that gave rise to the investigation or review, the final determination concerning the subject merchandise, or any previous review under section 751 concerning the subject merchandise. See 19 CFR 351.308(c) and (d); see also the SAA at 870. The SAA clarifies that “corroborate” means that the Department will satisfy itself that the secondary information to be used has probative value. See the SAA at 870. The SAA also states that independent sources used to corroborate such evidence may include, for example, published price lists, official import statistics and customs data, and information obtained from interested parties during the particular investigation. Id. To corroborate secondary information, the Department will, to the extent practicable, examine the reliability and relevance of the information used. Id.

Unlike other types of information such as input costs or selling expenses, there are no independent sources for calculated dumping margins. The only source for an antidumping margin is the investigation and prior administrative determinations. If the Department chooses as facts available a calculated dumping margin from the investigation or a prior segment of the proceeding, it is not necessary to question the reliability of the margin. See Carbazole Violet Pigment 23 from India: Preliminary Results of Antidumping Duty Administrative Review, 73 FR 52012 (September 8, 2008) (“Carbazole Violet Pigment 23 from India”); see also Antifriction Bearings and Parts Thereof from France, et al.: Preliminary Results of Antidumping Duty Administrative Reviews, Partial Rescission of Administrative Reviews, Notice of Intent to Rescind Administrative Reviews, and Notice of Intent to Revoke Order in Part, 69 FR 5949, 5953 (February 9, 2004), unchanged in Antifriction Bearings and Parts Thereof from France, et al.: Final Results of Antidumping Duty Administrative Reviews, Rescission of Administrative Reviews in Part, and Determination To Revoke Order in Part, 69 FR 55574, 55576-77 (September 15, 2004).

With respect to the relevance aspect of corroboration, however, the Department will consider information reasonably at its disposal to determine whether a margin continues to have relevance. Where circumstances indicate that the selected margin is not appropriate as AFA, the Department will disregard the margin and determine an appropriate margin. For example, in Fresh Cut Flowers from Mexico; Final Results of Antidumping Duty Administrative Review, 61 FR 6812, 6814 (February 22, 1996), the Department disregarded the highest margin in that case as adverse best information available (the predecessor to facts available) because the margin was based on another company's uncharacteristic business expense resulting in an unusually high margin. Similarly, the Department does not apply a margin that has been discredited or judicially invalidated. See D & L Supply Co. v. United States, 113 F.3d 1220, 1221 (CAFC 1997).

In this case, there are no circumstances present to indicate that the selected margin is not appropriate as facts available. We have decided to use the highest cash deposit rate calculated for Essar from any prior segment of these proceedings as AFA. The Department considers this dumping margin relevant for use as AFA for this review because this margin is calculated based on Essar's own information in the original investigation.³ Moreover, there is no information on the record of this review that demonstrates that 28.25 percent is not an appropriate AFA rate for Essar. The Department finds that the use of the rate of 28.25 percent as an AFA rate is sufficiently high to ensure that Essar does not benefit from failing to cooperate in our review by refusing to respond to our questionnaire. See Certain Cut-to-Length Carbon-Quality Steel Plate Products from the Republic of Korea: Final Results of Antidumping Duty Administrative Review and Rescission of Administrative Review in Part, 73 FR 15132, 15133 (March 21, 2008); see also Carbazole Violet Pigment 23 from India. Thus, the Department considers the 28.25 percent rate corroborated “to the extent practicable” in accordance with the Act.

³ This rate is adjusted to 28.25 percent to account for the export subsidy rate found in the countervailing duty investigation.

Adjustment for Export Subsidies

As noted above, in the original investigation, we subtracted the portion of the countervailing duty rate attributable to export subsidies (8.03 percent) from the antidumping margin (36.53 percent) in order to calculate the cash-deposit rate of 28.25 percent. Because the AFA rate we selected for this review is the adjusted cash-deposit rate we calculated for Essar in the investigation, we are making no further adjustments under section 772(c)(1)(C) of the Act.

Preliminary Results of the Review

As a result of this review, we preliminarily find that the following dumping margin exists for the period December 1, 2007, through November 30, 2008.

Producer/Manufacturer | Rate Adjusted for Export Subsidies
Essar | 28.25

Disclosure

The Department will disclose these preliminary results to the parties within five days of the date of publication of this notice in accordance with 19 CFR 351.224(b).

Comments

Interested parties are invited to comment on the preliminary results and may submit case briefs and/or written comments within 30 days of the date of publication of this notice. See 19 CFR 351.309(c)(1)(ii). Rebuttal briefs, limited to issues raised in the case briefs, will be due five days later, pursuant to 19 CFR 351.309(d). Parties who submit case or rebuttal briefs in this proceeding are requested to submit with each argument (1) a statement of the issue, and (2) a brief summary of the argument. Parties are requested to provide a summary of the arguments not to exceed five pages and a table of statutes, regulations, and cases cited. See 19 CFR 351.309(c)(2). Additionally, parties are requested to provide their case brief and rebuttal briefs in electronic format (e.g., Microsoft Word, pdf, etc.). Interested parties, who wish to request a hearing or to participate if one is requested, must submit a written request to the Assistant Secretary for Import Administration within 30 days of the date of publication of this notice. Requests should contain: (1) the party's name, address, and telephone number; (2) the number of participants; and (3) a list of issues to be discussed. See 19 CFR 351.310(c). Issues raised in the hearing will be limited to those raised in case and rebuttal briefs. The Department will issue the final results of this review, including the results of its analysis of issues raised in any such written briefs or at the hearing, if held, not later than 120 days after the date of publication of this notice.

Assessment Rate

Pursuant to 19 CFR 351.212(b), the Department will determine, and CBP shall assess, antidumping duties on all appropriate entries. The Department intends to issue appropriate assessment instructions directly to CBP 15 days after the publication of the final results of this review. We will instruct CBP to assess antidumping duties on all appropriate entries covered by this review. The final results of this review shall be the basis for the assessment of antidumping duties on entries of merchandise covered by the final results of these reviews and for future deposits of estimated duties, where applicable.

The Department clarified its “automatic assessment” regulation on May 6, 2003. See Antidumping and Countervailing Duty Proceedings: Assessment of Antidumping Duties, 68 FR 23954 (May 6, 2003) (“Assessment Policy Notice”). This clarification will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediary involved in the transaction. See Assessment Policy Notice for a full discussion of this clarification.

Cash Deposit Requirements

The following deposit rates will be effective upon publication of the final results of this administrative review for all shipments of hot-rolled carbon steel flat products from India entered, or withdrawn from warehouse, for consumption on or after the publication date, as provided by section 751(a)(2)(C) of the Act: (1) The cash deposit rates for the company listed above will be the rate established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in these reviews, a prior review, or the original less-than-fair-value (“LTFV”) investigation, but the manufacturer is, the cash deposit rate will be the rate established for the most recent final results for the manufacturer of the merchandise; and (4) if neither the exporter nor the manufacturer is a firm covered in this or any previous review or the LTFV conducted by the Department, the cash deposit rate will be 23.87 percent, the all-others rate established in the LTFV. See Amended Final Determination. These cash deposit requirements, when imposed, shall remain in effect until further notice.

Notification to Importers

This notice serves as a preliminary reminder to importers of their responsibility under 19 CFR 351.402(f)(2) to file a certificate regarding the reimbursement of antidumping and countervailing duties prior to liquidation of the relevant entries during this review period. Failure to comply with this requirement could result in the Secretary's presumption that reimbursement of antidumping and countervailing duties occurred and the subsequent assessment of double antidumping and countervailing duties.

These preliminary results of review are issued and published in accordance with sections 751(a)(1) and 777(i) of the Act and 19 CFR 351.221(b)(4).

Dated: December 30, 2009.
Ronald K. Lorentzen,
Deputy Assistant Secretary for Import Administration.

[FR Doc. 2010-128 Filed 01-07-10; 8:45 am]

BILLING CODE 3510-DS-S